DEPARTMENT OF HEALTH AND HUMAN SERVICES

Administration for Children and Families

[Program Announcement No. ACYF-PA-HS-2000-03A]

Fiscal Year 2000 Discretionary Announcement of the Availability of Funds and Request for Applications for Nationwide Expansion Competition of Early Head Start; Correction

AGENCY: Administration for Children, Youth and Families, ACF, DHHS.

ACTION: Correction.

SUMMARY: This document contains a correction to the Notice that was published in the Federal Register on Tuesday, February 29, 2000.

On page 10799, the County column mistakenly lists the following counties in Iowa: Des Moines County, Ida County, Lee County, Louisa County, Lyon County, Monroe County, Sioux County, and Wayne County. These counties are unserved and open for competition for Early Head Start Programs.

On page 10803 the State column mistakenly lists Nuckolls. Nuckolls is a county in Nebraska and should appear in the county column. The county is currently being served and is not open for competition to new Early Head Start programs.

On page 10804, in New York State, Westchester County, in the community column it should read “excluding White Plains, New York.” The County is being served, except for White Plains. Only White Plains is open to competition for new Early Head Start programs.

On page 10806, for Rhode Island, Bristol County, the community of Barrington should be added to the communities of Bristol and Warren. In Rhode Island, Providence County, the City of Cranston and the towns of E. Providence and Central Falls should be added to the towns of: Burrillville, Johnston, N. Providence, Smithfield, N. Smithfield, Glocester, Scituate and Foster. All these communities are currently being served and are not open for competition to new Early Head Start programs.

On page 10808, in Texas, in the County column, Tarran is mispelled and should be corrected to read Tarrant County. This county is currently being served and is not open to competition to new Early Head Start programs.

FOR FURTHER INFORMATION CONTACT: The ACYF Operations Center at 1-800-351-2293 or send an email to ehs@lcgnet.com. You can also contact Judith Jerald, Early Head Start, Head Start Bureau at (202) 205-8074.

Dated: April 3, 2000.
Patricia Montoya,
Commissioner, Administration on Children, Youth and Families.

[FR Doc. 00-8605 Filed 4-6-00; 8:45 am]

BILLING CODE 4184-01-M